DEPARTMENT OF AGRICULTURE

Commodity Credit Corporation

Domestic Sugar Program—2005-Crop Sugar Marketing Allotments and Company Allocations

AGENCY: Commodity Credit Corporation, USDA.

ACTION: Notice.

SUMMARY: The Commodity Credit Corporation (CCC) is issuing this notice which sets forth the establishment of the sugar overall allotment quantity for the 2004 crop year (FY 2005) which runs from October 1, 2004 through September 30, 2005. Although CCC already has announced all of the information in this notice, CCC is statutorily required to publish in the Federal Register determinations establishing sugar marketing allotments. CCC set the 2004-crop overall allotment quantity (OAQ) of domestic sugar to 8.100 million short tons raw value (STRV) on July 16, 2004; 4.402 million STRV to the beet sector, and 3.698 million STRV to the cane sector. On July 22, 2004, CCC announced the 2004 crop year, proportionate-share percentage of 83.4 percent for Louisiana. On September 28, 2004, CCC announced the allotments to sugarcane-producing States and allocations to sugarcane and sugar beet processors. At that time, because Puerto Rico had ceased production of sugar for more than two years, CCC also eliminated the allotment to Puerto Rico and allocations to Puerto Rico's two sugarcane processors.

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@usda.gov.

FOR FURTHER INFORMATION CONTACT: Barbara Fecso at (202) 720-4146.

SUPPLEMENTARY INFORMATION: Section 359b(b)(1) of the Agricultural Adjustment Act of 1938, as amended, (7 U.S.C. 1359bb(a)(1)), requires the Secretary to establish, by the beginning of each crop year, an appropriate allotment for the marketing by processors of sugar processed from sugar beets and from domestically produced cane sugar at a level the Secretary estimates will result in no forfeitures of sugar to the CCC under the loan program. When CCC announced an 8.100 million ton OAQ in July 2004, it noted the existence of sugar market uncertainties and that the OAQ would be adjusted if warranted.

To establish cane state allotments, weights of 25 percent, 25 percent and 50 percent, respectively, are assigned to the three-factor criteria: past marketings; processing capacity; and ability to market. This notice reflects the recent change in the “ability to market” definition, which is now based on historical data. See 69 FR 55061-55063. Beginning with FY 2005, the cane processor allocations are fixed shares of the cane sugar allotment and will change only if the Commodity Credit Corporation (CCC) adjusts the OAQ or determines that a processor cannot fulfill its cane sugar allocation and reassigns the unused allocation to other processors.

CCC is required to limit the amount of sugarcane acreage that may be harvested in Louisiana for sugar or seed whenever marketing allotments are in effect and the quantity of sugarcane estimated to be produced in Louisiana, plus a reasonable carryover, exceeds the marketing allotment allocation for Louisiana. This limitation is referred to as a “proportionate share,” and is applied to each farm's sugarcane acreage base to determine the quantity of sugarcane that may be harvested on that farm. Because production will be excessive in Louisiana, CCC has determined that the proportionate share of a sugarcane acreage base that may be harvested in Louisiana for sugar or seed for the 2004 crop year will be 83.4 percent of each farm's sugarcane acreage base.

CCC has determined that Puerto Rico's processors permanently terminated operations because no sugar had been processed for two complete years. Consequently, the allocation of 6,356 STRV was permanently reassigned to the mainland sugarcane-producing states. Hawaii received none of Puerto Rico's reassignment because it is not expected to use all of its current cane sugar allotment. A request for an allocation as a new entrant would be required for any mills in Puerto Rico to market cane sugar in the future.

These actions apply to all domestic sugar marketed for human consumption in the United States from October l, 2004, through September 30, 2005. The established 2004-crop beet and cane sugar marketing allotments are listed in the following table:

FY 2005 Overall Beet/Cane Allotments and Allocations
| Initial FY 2005 allocations | Reassignment of Puerto Rican allotment | Beginning FY 2005 allotments/allocations
Beet Sugar | 4,402,350 |  |
Cane Sugar | 3,697,650 |  |
TOTAL OAQ | 8,100,000 |  |
BEET PROCESSORS' MARKETING ALLOCATIONS:
Amalgamated Sugar Co. | 917,207 |  |
American Crystal Sugar Co. | 1,692,713 |  |
Holly Sugar Corp. | 295,372 |  |
Michigan Sugar Co. | 281,254 |  |
Minn-Dak Farmers Co-op. | 274,650 |  |
Monitor Sugar Co. | 161,164 |  |
So. Minn Beet Sugar Co-op. | 282,812 |  |
Western Sugar Co. | 438,449 |  |
Wyoming Sugar Co. | 58,729 |  |
TOTAL BEET SUGAR | 4,402,350 |  |
STATE CANE SUGAR ALLOTMENTS:
Florida | 1,812,722 | 3,416 | 1,816,139
Louisiana | 1,402,345 | 2,643 | 1,404,987
Texas | 157,583 | 297 | 157,880
Hawaii | 318,644 | 0 | 318,644
Puerto Rico | 6,356 | −6,356 | 0
TOTAL CANE SUGAR | 3,697,650 | 0 | 3,697,650
SUGARCANE PROCESSORS' MARKETING ALLOCATIONS:
Florida:
Atlantic Sugar Assoc. | 152,198 | 287 | 152,485
Growers Co-op. of FL | 326,082 | 615 | 326,697
Okeelanta Corp. | 383,847 | 723 | 384,570
Osceola Farms Co. | 210,300 | 396 | 210,697
U.S. Sugar Corp. | 740,295 | 1,395 | 741,690
TOTAL | 1,812,722 | 3,416 | 1,816,139
Louisiana:
Alma Plantation | 76,478 | 144 | 76,622
Cajun Sugar Co-op. | 106,225 | 200 | 106,426
Cora-Texas Mfg. Co. | 130,258 | 245 | 130,504
Harry Laws & Co. | 57,006 | 107 | 57,113
Iberia Sugar Co-op. | 67,712 | 128 | 67,839
Jeanerette Sugar Co. | 64,078 | 121 | 64,199
Lafourche Sugars Corp. | 76,381 | 144 | 76,525
Louisiana Sugarcane Co-op. | 87,247 | 164 | 87,411
Lula Westfield, LLC | 165,601 | 312 | 165,913
M.A. Patout & Sons | 368,356 | 694 | 369,051
St. Mary Sugar Co-op. | 92,814 | 175 | 92,989
So. Louisiana Sugars Co-op. | 110,189 | 208 | 110,396
TOTAL | 1,402,345 | 2,643 | 1,404,987
Texas:
Rio Grande Valley | 157,583 | 297 | 157,880
Hawaii:
Gay & Robinson, Inc. | 73,145 | 0 | 73,145
Hawaiian Commercial & Sugar Company | 245,499 | 0 | 245,499
TOTAL | 318,644 | 0 | 318,644
Puerto Rico:
Agraso | 4,076 | −4,076 | 0
Roig | 2,280 | −2,280 | 0
TOTAL | 6,356 | −6,356 | 0

Signed in Washington, DC on December 3, 2004.
James R. Little,
Executive Vice President, Commodity Credit Corporation.

[FR Doc. 04-27966 Filed 12-21-04; 8:45 am]

BILLING CODE 3410-05-P